INTER-AMERICAN FOUNDATION

Sunshine Act; Meeting of the Board of Directors

time and date: November 13, 2003, 9:30 a.m.-12 p.m.

place: Inter-American Foundation, 901 N. Stuart Street, Tenth Floor, Arlington, Virginia 22203.

status: Open session.

matters to be considered: A. Board of Directors Business

1. Welcome and Swearing in of New Members.

2. Approval of Minutes of Last Meeting.

3. President's Report.

• Overview of Fiscal Year 2003

• Grant Review Process

• Congressional Update

• Alternative Funding Mechanisms

• Evaluation and Preliminary GDF Results

4. Restoration of Appropriation in Light of Operations, Performance, Demand and Potential.

5. Millennium Challenge Account: Guidance and Planning for Implementation.

6. Update on the Corporate Foundation Network and its CEO Committee.

7. Presentation on IAF Work in the Area of Transnationalism.

B. Lunch with Presentation on Nicaragua.

C. Coffee with Staff.

for further information contact: Carolyn Karr, General Counsel, (703) 306-4350.

Dated: October 31, 2003.
Carolyn Karr,
General Counsel.

[FR Doc. 03-27857 Filed 10-31-03; 1:05 pm]

BILLING CODE 7025-01-M